DEPARTMENT OF ENERGY

Federal Energy Regulatory Commission

Combined Notice of Filings #1

Take notice that the Commission received the following electric corporate filings:

Docket Numbers: EC13-59-000.

Applicants: Brooklyn Navy Yard Cogeneration Partners, L.P.

Description: Application of Brooklyn Navy Yard Cogeneration Partners, L.P. for Authorization for Disposition of Jurisdictional Facilities and Request for Expedited Consideration.

Filed Date: 1/4/13.

Accession Number: 20130104-5163.

Comments Due: 5 p.m. ET 1/25/13.

Take notice that the Commission received the following electric rate filings:

Docket Numbers: ER13-200-001.

Applicants: Woodland Biomass Power Ltd.

Description: MBR Deficiency Filing to be effective 10/29/2012.

Filed Date: 1/7/13.

Accession Number: 20130107-5026.

Comments Due: 5 p.m. ET 1/28/13.

Docket Numbers: ER13-204-001.

Applicants: DTE Stoneman, LLC.

Description: MBR Deficiency Filing to be effective 10/29/2012.

Filed Date: 1/7/13.

Accession Number: 20130107-5025.

Comments Due: 5 p.m. ET 1/28/13.

Docket Numbers: ER13-205-001.

Applicants: DTE Pontiac North, LLC.

Description: MBR Deficiency Filing to be effective 10/29/2012.

Filed Date: 1/7/13.

Accession Number: 20130107-5023.

Comments Due: 5 p.m. ET 1/28/13.

Docket Numbers: ER13-208-001.

Applicants: DTE Energy Supply, Inc.

Description: MBR Deficiency Filing to be effective 10/29/2012.

Filed Date: 1/7/13.

Accession Number: 20130107-5022.

Comments Due: 5 p.m. ET 1/28/13.

Docket Numbers: ER13-209-001.

Applicants: DTE River Rouge No. 1, LLC.

Description: MBR Deficiency Filing to be effective 10/29/2012.

Filed Date: 1/7/13.

Accession Number: 20130107-5024.

Comments Due: 5 p.m. ET 1/28/13.

Docket Numbers: ER13-210-001.

Applicants: DTE East China, LLC.

Description: MBR Deficiency Filing to be effective 10/29/2012.

Filed Date: 1/7/13.

Accession Number: 20130107-5018.

Comments Due: 5 p.m. ET 1/28/13.

Docket Numbers: ER13-212-001.

Applicants: DTE Calvert City, LLC.

Description: MBR Deficiency Filing to be effective 10/29/2012.

Filed Date: 1/7/13.

Accession Number: 20130107-5016.

Comments Due: 5 p.m. ET 1/28/13.

Docket Numbers: ER13-219-001.

Applicants: California Independent System Operator Corporation.

Description: 2013-01-04 Filing to Comply with December 20, 2012 Order in Docket No. ER13-219 to be effective 1/1/2013.

Filed Date: 1/4/13.

Accession Number: 20130104-5126.

Comments Due: 5 p.m. ET 1/25/13.

Docket Numbers: ER13-709-000.

Applicants: Midwest Independent Transmission System Operator, Inc.

Description: 2013-01-04 Scheds 10-16-17 to be effective 3/6/2013.

Filed Date: 1/4/13.

Accession Number: 20130104-5127.

Comments Due: 5 p.m. ET 1/25/13.

Docket Numbers: ER13-710-000.

Applicants: PJM Interconnection, L.L.C.

Description: Queue Position X1-068; Original Service Agreement No. 3471 to be effective 12/3/2012.

Filed Date: 1/4/13.

Accession Number: 20130104-5141.

Comments Due: 5 p.m. ET 1/25/13.

Docket Numbers: ER13-711-000.

Applicants: California Independent System Operator Corporation.

Description: 2013-01-04 CAISO DTBAOA with Public Service New Mexico to be effective 3/6/2013.

Filed Date: 1/4/13.

Accession Number: 20130104-5153.

Comments Due: 5 p.m. ET 1/25/13.

Docket Numbers: ER13-712-000.

Applicants: CPV Cimarron Renewable Energy Company, LLC.

Description: Cimarron Wind Energy, LLC Notice of Succession and Tariff Revisions to be effective 1/5/2013.

Filed Date: 1/4/13.

Accession Number: 20130104-5154.

Comments Due: 5 p.m. ET 1/25/13.

Docket Numbers: ER13-713-000.

Applicants: FirstEnergy Nuclear Generation Corp.

Description: Market-Based Rate Power Sales Tariff to be effective 1/4/2013.

Filed Date: 1/4/13.

Accession Number: 20130104-5155.

Comments Due: 5 p.m. ET 1/25/13.

Docket Numbers: ER13-714-000.

Applicants: PJM Interconnection, L.L.C.

Description: PJM Interconnection, L.L.C. submits Notice of Cancellation of service agreement No. 785.

Filed Date: 1/4/13.

Accession Number: 20130104-5162.

Comments Due: 5 p.m. ET 1/25/13.

Docket Numbers: ER13-715-000.

Applicants: PJM Interconnection, L.L.C.

Description: Original Service Agreement No. 3451; Queue No. X3-079 to be effective 12/7/2012.

Filed Date: 1/7/13.

Accession Number: 20130107-5043.

Comments Due: 5 p.m. ET 1/28/13.

Docket Numbers: ER13-716-000.

Applicants: PJM Interconnection, L.L.C.

Description: PJM Interconnection, L.L.C. submits tariff filing per 35.13(a)(2) (iii: Original Service Agreement No. 3446; Queue No. X1-116 to be effective 12/7/2012.

Filed Date: 1/7/13.

Accession Number: 20130107-5058.

Comments Due: 5 p.m. ET 1/28/13.

Take notice that the Commission received the following public utility holding company filings:

Docket Numbers: PH13-7-000.

Applicants: Algonquin Power & Utilities Corp.

Description: Algonquin Power & Utilities Corp submits FERC-65-B Waiver Notification Withdrawal.

Filed Date: 1/4/13.

Accession Number: 20130104-5161.

Comments Due: 5 p.m. ET 1/25/13.

Take notice that the Commission received the following qualifying facility filings:

Docket Numbers: QF13-218-000.

Applicants: Harbor Cogeneration Company, LLC.

Description: Form 556 of Harbor Cogeneration Company, LLC.

Filed Date: 12/27/12.

Accession Number: 20121227-5111.

Comments Due: None Applicable.

Take notice that the Commission received the following electric reliability filings:

Docket Numbers: RD13-3-000.

Applicants: North American Electric Reliability Corp.

Description: Errata to Petition of the North American Electric Reliability Corporation for Approval of Proposed Reliability Standard EOP-004-2—Event Reporting.

Filed Date: 2/4/13.

Accession Number: 20130104-5167.

Comments Due: 5 p.m. ET 2/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2013.
Nathaniel J. Davis, Sr.,
Deputy Secretary.

[FR Doc. 2013-00685 Filed 1-14-13; 8:45 am]

BILLING CODE 6717-01-P